DEPARTMENT OF ENERGY

Electricity Advisory Committee

AGENCY: Office of Electricity, Department of Energy.

ACTION: Notice of open meeting.

SUMMARY: This notice announces a meeting of the Electricity Advisory Committee. The Federal Advisory Committee Act requires that public notice of these meetings be announced in the Federal Register.

DATES: Wednesday, August 26, 2020; 1:45 p.m.-3:00 p.m. EST.

ADDRESSES: This meeting of the EAC will be held via WebEx video and teleconference. In order to track all participants, the Department is requiring that those wishing to attend register for the meeting here: https://www.energy.gov/oe/august-26-2020-meeting-electricity-advisory-committee.

FOR FURTHER INFORMATION CONTACT: Christopher Lawrence, Designated Federal Officer, Office of Electricity, U.S. Department of Energy, Washington, DC 20585; Telephone: (202) 586-5260 or email: Christopher.lawrence@hq.doe.gov.

SUPPLEMENTARY INFORMATION: Purpose of the Committee: The Electricity Advisory Committee (EAC) was established in accordance with the provisions of the Federal Advisory Committee Act (FACA), to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda: This meeting of the EAC is expected to include discussion of the EAC's response to a Request for Information (RFI) that the Department of Energy released concerning the Energy Storage Grand Challenge. The RFI can be found here: https://www.energy.gov/sites/prod/files/2020/07/f77/ESGC%20RFI_Web%20Version%20-%20Aug%2031%2C%202020_0.pdf. During the meeting, the full EAC membership will vote on whether to approve the response to the RFI.

August 26, 2020

1:45 p.m.-2:00 p.m. WebEx Attendee Sign-On

2:00 p.m.-2:10 p.m. Welcome, Introductions, and Roll Call

2:10 p.m.-2:45 p.m. Discussion and vote on the Energy Storage Grand Challenge RFI Response

2:45 p.m.-2:55 p.m. Public Comment

2:55 p.m.-3:00 p.m. Adjourn

The meeting agenda may change to accommodate EAC business. For EAC agenda updates, see the EAC website at: http://energy.gov/oe/services/electricity-advisory-committee-eac.

Public Participation: The EAC welcomes the attendance of the public at its meetings, no advanced registration is required. Individuals who wish to offer public comments at the EAC meeting may do so on during the call but must register in advance with Mr. Christopher Lawrence. Approximately 10 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee August ESCG RFI Meeting,” to Mr. Christopher Lawrence at Christopher.lawrence@hq.doe.gov.

Minutes: The minutes of the EAC meeting will be posted on the EAC webpage at http://energy.gov/oe/services/electricity-advisory-committee-eac. They can also be obtained by contacting Mr. Christopher Lawrence at the address above.

Signed in Washington, DC on August 6, 2020.
LaTanya Butler,
Deputy Committee Management Officer.

[FR Doc. 2020-17517 Filed 8-10-20; 8:45 am]

BILLING CODE 6450-01-P